DEPARTMENT OF DEFENSE

Department of the Army

Intent To Grant an Exclusive License of a U.S. Government-Owned Patent

AGENCY: Department of the Army, DoD.

ACTION: Notice.

SUMMARY: In accordance with 35 U.S.C. 209 and 37 CFR 404.7 (a)(l)(i), announcement is made of the intent to grant an exclusive, royalty-bearing, revocable license within the geographic area of the United States of America and its territories and possessions to U.S. Patent application 11/279,027, filed April 7, 2007 entitled “Artillery Rocket Kinetic Energy Rod Warhead”, to General Dynamics Ordnance and Tactical Systems with its principal place of business at 4565 Commercial Drive, Niceville, FL 32578.

ADDRESSES: Commander, U.S. Army Research Development and Engineering Command, ATTN: AMSRD-AMR-AS-PT-TR, Bldg 5400, Redstone Arsenal, AL 35898-5000.

FOR FURTHER INFORMATION CONTACT: For licensing issues, Dr. Russ Alexander, Office of Research & Technology Applications, (256) 876-8743.

SUPPLEMENTARY INFORMATION: One object of the present invention is to realize a highly accurate Kinetic Energy (KE) rod warhead. Another object is to provide an easily assembled KE rod warhead. Yet another object is to provide a warhead that removes the problems inherent with unexploded ordnance. These and other objects are provided by a warhead having a plurality of tier pack bulkheads arranged in a stacked formation around a center column to form a plurality of tier packs. A plurality of skin severance trays are connected to the plurality of tier pack bulkheads. A bulkhead collar and an aft bulkhead are connected to the center column with the plurality of tier packs being positioned between the bulkhead collar and the aft bulkhead. A plurality of holding trays, separated by dividers, is positioned within the plurality of tier packs, the holding trays being positioned between respective tier pack bulkheads. The holding trays are filled with KE rods.

Brenda S. Bowen,
Army Federal Register Liaison Officer

[FR Doc. 07-2261 Filed 5-7-07; 8:45 am]

BILLING CODE 3710-08-M